DEPARTMENT OF AGRICULTURE

National Agricultural Statistics Service

Notice of Intent To Seek Approval To Conduct an Information Collection

AGENCY: National Agricultural Statistics Service, USDA.

ACTION: Notice and request for comments.

SUMMARY: In accordance with the Paperwork Reduction Act of 1995, this notice announces the intention of the National Agricultural Statistics Service (NASS) to seek approval to conduct two new information collections, the 2008 On-Farm Renewable Energy Production Survey and the 2008 Organic Production and Marketing Survey.

DATES: Comments on this notice must be received by October 14, 2008 to be assured of consideration.

ADDRESSES: You may submit comments, identified by docket number 0535-NEW, 2008 On Farm-Renewable Energy Production Survey and the 2008 Organic Production and Marketing Survey, by any of the following methods:

• E-mail: ombofficer@nass.usda.gov. Include docket number and title above in the subject line of the message.

• Fax: (202) 720-6396.

• Mail: Mail any paper, disk, or CD-ROM submissions to: NASS Clearance Officer, U.S. Department of Agriculture, Room 5336A, Mail Stop 2024, South Building, 1400 Independence Avenue, SW., Washington, DC 20250-2024.

• Hand Delivery/Courier: Hand deliver to: NASS Clearance Officer, U.S. Department of Agriculture, Room 5336A, South Building, 1400 Independence Avenue, SW., Washington, DC 20250-2024.

FOR FURTHER INFORMATION CONTACT: Joseph T. Reilly, Associate Administrator, National Agricultural Statistics Service, U.S. Department of Agriculture, (202) 720-4333.

SUPPLEMENTARY INFORMATION: Title: 2008 On-Farm Renewable Energy Production Survey, and 2008 Organic Production and Marketing Survey.

OMB Control Number: 0535—NEW.

Type of Request: Intent to Seek Approval to Conduct two Information Collections as mandated by the Food, Conservation, and Energy Act of 2008.

Abstract: The National Agricultural Statistics Service (NASS) of the United States Department of Agriculture (USDA) will request approval from the Office of Management and Budget (OMB) for both the On-Farm Renewable Energy Production Survey and the Organic Products Survey to be conducted as follow-on surveys from the 2007 Census of Agriculture.

(1) The 2008 Energy Produced on Farms Survey will use as a sampling universe every respondent on the 2007 Census of Agriculture who reported energy generation on the farm using wind or solar technology, methane digester, etc. This energy survey will provide a comprehensive inventory of farm-generated energy practices with detailed data relating to category or type of energy produced (wind, solar, hydropower, biomass, methane digester, geothermal, etc.), how much energy was generated, if any energy was sold onto a power grid, and the average payment received per kilowatt hour. Data collection will be in the Spring of 2009 with a final report published in the Fall of 2009. Data will be published at both the U.S. and State level where possible.

Estimate of Burden: Public reporting burden for this collection of information is estimated to average 20 minutes per response.

Respondents: Farmers, ranchers, and farm managers self identified as producers of energy through the 2007 Census of Agriculture.

Estimated Number of Respondents: 16,500.

Estimated Total Annual Burden on Respondents: 5,500 hours.

(2) The 2008 Organic Production and Marketing Survey will use as a sampling universe every respondent on the 2007 Census of Agriculture who reported organic production for sale in 2007. This survey will provide organic production by commodity, marketing practices (handling, distribution, retail, and consumer purchasing patterns), and prices received by organic producers. Data collection will be in the Spring of 2009 with a final report published in the Spring of 2010. Data will be published at the U.S. and State level where possible.

Estimate of Burden: Public reporting burden for this collection of information is estimated to average 60 minutes per response.

Respondents: Farmers, ranchers, and farm managers self identified as organic producers through the 2007 Census of Agriculture.

Estimated Number of Respondents: 15,500.

Estimated Total Annual Burden on Respondents: 15,500 hours.

The primary objectives of the National Agricultural Statistics Service are to prepare and issue State and national estimates of crop production, livestock production, economic statistics, and environmental statistics related to agriculture and to conduct the Census of Agriculture and its follow on surveys. This notice request is in response to a mandate in 7 U.S.C. 5925c, as amended by the Food, Conservation, and Energy Act of 2008, Section 10302, Public Law 110-246.

Authority: These data will be collected under the authority of 7 U.S.C. 2204(a). Individually identifiable data collected under this authority are governed by Section 1770 of the Food Security Act of 1985, 7 U.S.C. 2276, which requires USDA to afford strict confidentiality to non-aggregated data provided by respondents. This Notice is submitted in accordance with the Paperwork Reduction Act of 1995 (Pub. L. 104-13) and Office of Management and Budget regulations at 5 CFR part 1320 (60 FR 44978, August 29, 1995).

Copies of this information collection and related instructions can be obtained without charge from the NASS OMB Clearance Officer at (202) 720-2248.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed at Washington, DC, August 4, 2008.
Joseph T. Reilly,
Associate Administrator.

[FR Doc. E8-18793 Filed 8-13-08; 8:45 am]

BILLING CODE 3410-20-P